DEPARTMENT OF ENERGY

Federal Energy Regulatory Commission

[Project No. 13563-000]

Juneau Hydropower, Inc.; Notice of Preliminary Permit Application Accepted for Filing and Soliciting Comments, Motions To Intervene, and Competing Applications

September 4, 2009.

On September 3, 2009, Juneau Hydropower, Inc. filed an application for a preliminary permit, pursuant to section 4(f) of the Federal Power Act, proposing to study the feasibility of the Sweetheart Lake Project located on the Lower Sweetheart Lake and the Sweetheart Creek in Juneau, Alaska. The sole purpose of a preliminary permit, if issued, is to grant the permit holder priority to file a license application during the permit term. A preliminary permit does not authorize the permit holder to perform any land-disturbing activities or otherwise enter upon lands or waters owned by others without the owners' express permission.

The proposed project would consist of the following: (1) A new concrete and rock face dam approximately 500-feet-long and 90-feet-high at the outlet of the Lower Sweetheart Lake; (2) utilizing the existing impoundment of Lower Sweetheart Lake and raising the surface elevation to 629 feet, surface area to 1,635 acres, and storage capacity to 129,693 acre-feet; (3) a proposed 9-foot-diameter and 1,650-feet-long penstock connecting to the powerhouse; (4) a proposed powerhouse containing two new generating units having an installed capacity of 30-megawatts; (5) a proposed tailrace; (6) a proposed 138-kilovolt transmission line; and (7) appurtenant facilities. The proposed Sweetheart Lake Project would have an average annual generation of 136 gigawatt-hours.

Applicant Contact: Duff Mitchell, Business Manager, Juneau Hydropower, Inc., P.O. Box 22775, Juneau, AK 99802; phone: (907) 789-2775.

FERC Contact: Gina Krump, Gina.Krump@ferc.gov, (202) 502-6704.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's website at http://www.ferc.gov/docs-filing/elibrary.asp. Enter the docket number (P-13563) in the docket number field to access the document. For assistance, contact FERC Online Support.

Kimberly D. Bose,
Secretary.

[FR Doc. E9-22098 Filed 9-14-09; 8:45 am]

BILLING CODE 6717-01-P